DEPARTMENT OF THE TREASURY

Bureau of Alcohol, Tobacco and Firearms

Delegation Order—Delegation of the Director's Authorities in 27 CFR Part 250, Liquors and Articles from Puerto Rico and the Virgin Islands

To: All Bureau Supervisors.

1. Purpose. This order delegates certain authorities of the Director to subordinate ATF officials and prescribes the subordinate ATF officials with whom persons file documents which are not ATF forms.

2. Background. Under current regulations, the Director has authority to take final action on matters relating to procedure and administration. The Bureau has determined that certain of these authorities should, in the interest of efficiency, be delegated to a lower organizational level.

3. Cancellation. ATF O 1100.88A, Delegation Order—Delegation to the Associate Director (Compliance Operations) of Authorities of the Director in 27 CFR part 250, Liquors from Puerto Rico and Virgin Islands, dated May 10, 1984, is canceled.

4. Delegations. Under the authority vested in the Director, Bureau of Alcohol, Tobacco and Firearms, by Treasury Department Order No. 120-01 (formerly 221), dated June 6, 1972, and by 26 CFR 301.7701-9, this ATF order delegates certain authorities to take final action prescribed in 27 CFR part 250 to subordinate officials. Also, this ATF order prescribes the subordinate officials with whom applications, notices, and reports required by 27 CFR part 250, which are not ATF forms, are filed. The attached table identifies the regulatory sections, authorities and documents to be filed, and the authorized ATF officials. The authorities in the table may not be redelegated.

5. Questions. If you have questions about this ATF order, contact the Regulations Division (202-927-8210).

Bradley A. Buckles,
Director.

Regulatory Section | Officer(s) authorized to act or receive document
§ 250.2(a) | Chief, Regulations Division
§ 250.11—liquor bottle definition | Specialist, Alcohol Labeling and Formulation Division (ALFD)
§ 250.37 | Inspector, Specialist or Special Agent
§ 250.43 | Chemist, Inspector, Specialist or Special Agent
§ 250.52(b) and (c) | Chief, Puerto Rico Operations
§ 250.62(a) | Chief, Puerto Rico Operations
§ 250.65 | Chief, Puerto Rico Operations
§ 250.70 | Chief, Puerto Rico Operations
§ 250.70a | Specialist, Puerto Rico Operations
§ 250.71(c) and (d) | Chief, Puerto Rico Operations
§ 250.72 | Chief, Puerto Rico Operations
§ 250.74 | Chief, Puerto Rico Operations
§ 250.75 | Chief, Puerto Rico Operations
§ 250.81 | Chief, Puerto Rico Operations
§ 250.96 | Chief, Puerto Rico Operations
§ 250.105 | Chief, Puerto Rico Operations
§ 250.110 | Chief, Puerto Rico Operations
§ 250.112(c)(1) and (4) and (e) | Chief, Puerto Rico Operations
§ 250.112a(b)(1) and (3) and (c)(1) | Chief, Puerto Rico Operations
§ 250.116 | Inspector, Specialist or Special Agent
§ 250.119 | Chief, Puerto Rico Operations, to whom forms are forwarded. Inspector, Specialist or Special Agent to examine forms.
§ 250.126 | Chief, Puerto Rico Operations
§ 250.128 | Inspector, Specialist or Special Agent
§ 250.173(a) | Chief, Puerto Rico Operations
§ 250.174(a) and (e) | Inspector, Specialist or Special Agent
§ 250.193(b) | Chief, Puerto Rico Operations
§ 250.194 | Area Supervisor or Chief, Puerto Rico Operations
§ 250.197 | Unit Supervisor, National Revenue Center (NRC)
§ 250.209 | Specialist, Regulations Division, or Chemist, ATF Laboratory
§ 250.222(b) and (c) | Chief, Puerto Rico Operations
§ 250.275(a) | Section Supervisor, NRC to authorize files to be located at another business location. Inspector, Specialist or Special Agent to examine files.
§ 250.276 | Inspector, Specialist or Special Agent to inspect and copy records. Director of Industry Operations to extend record retention.
§ 250.303 | Section Chief, NRC
§ 250.309(a) | Chief, Puerto Rico Operations
§ 250.310(a) and (e) | Inspector, Specialist or Special Agent
§ 250.314(b) | Specialist, ALFD
§ 250.316 | Specialist, ALFD
§ 250.318 | Specialist, ALFD
§ 250.319 | Section Chief, NRC
§ 250.331 | Chief, Regulations Division

BILLING CODE 4810-38-P

[FR Doc. 01-21074 Filed 8-22-01; 8:45 am]

BILLING CODE 4810-31-C